LIBRARY OF CONGRESS

Copyright Royalty Board

[Docket No. 16-0005-CRB-AU]

Notice of Intent To Audit; Correction

AGENCY: Copyright Royalty Board, Library of Congress.

ACTION: Public notice; correction.

SUMMARY: The Copyright Royalty Judges published a document in the Federal Register of January 22, 2016, announcing receipt of five notices of intent to audit several broadcasters. The document contained incorrect dates in the summary section.

FOR FURTHER INFORMATION CONTACT: LaKeshia Keys, Program Specialist, by telephone at (202) 707-7658 or by email at crb@loc.gov.

Correction

In the Federal Register of January 22, 2016, in FR Doc. 2016-01300, on page 3786, in the first column, correct the summary to read: The Copyright Royalty Judges announce receipt of notices of intent to audit the 2012, 2013, and 2014 statements of account submitted by broadcasters Beasley Broadcast Group Inc., Greater Media Inc., Townsquare Media Broadcasting and Univision Communications Inc. and the 2013 and 2014 statements of account submitted by broadcaster Saga Communications Inc. concerning royalty payments each made pursuant to two statutory licenses.

Dated: February 4, 2016.
Jesse M. Feder,
Copyright Royalty Judge.

[FR Doc. 2016-02631 Filed 2-9-16; 8:45 am]

BILLING CODE 1410-72-P